DEPARTMENT OF ENERGY

Federal Energy Regulatory Commission

Combined Notice of Filings #1

Take notice that the Commission received the following electric corporate filings:

Docket Numbers: EC17-22-000.

Applicants: Bluestem Wind Energy, LLC.

Description: Application for Authorization under Section 203 of the Federal Power Act of Bluestem Wind Energy, LLC.

Filed Date: 10/24/16.

Accession Number: 20161024-5187.

Comments Due: 5 p.m. ET 11/14/16.

Take notice that the Commission received the following electric rate filings:

Docket Numbers: ER10-2249-005.

Applicants: Portland General Electric Company.

Description: Second Supplement to June 30, 2016 Triennial Market Power Analysis in the Northwest Region for Portland General Electric Company.

Filed Date: 10/24/16.

Accession Number: 20161024-5065.

Comments Due: 5 p.m. ET 11/14/16.

Docket Numbers: ER16-2126-001.

Applicants: ISO New England Inc., New England Power Pool Participants Committee.

Description: Compliance filing: Compliance Filing Re: Automatically Matching Capacity & Multi-Year Lock In to be effective 12/27/2016.

Filed Date: 10/25/16.

Accession Number: 20161025-5022.

Comments Due: 5 p.m. ET 11/15/16.

Docket Numbers: ER17-169-000.

Applicants: ALLETE, Inc.

Description: § 205(d) Rate Filing: ALLETE Maintenance Services Agreement Filing to be effective 12/23/2016.

Filed Date: 10/24/16.

Accession Number: 20161024-5143.

Comments Due: 5 p.m. ET 11/14/16.

Docket Numbers: ER17-170-000.

Applicants: California Independent System Operator Corporation.

Description: § 205(d) Rate Filing: 2016-10-24—Planning Coordinator Agreement with MWD and CEII Request to be effective 12/26/2016.

Filed Date: 10/24/16.

Accession Number: 20161024-5144.

Comments Due: 5 p.m. ET 11/14/16.

Docket Numbers: ER17-171-000.

Applicants: Pacific Gas and Electric Company.

Description: Tariff Cancellation: Notice of Termination of Lathrop IA and WDT Service Agreement (SA 23) to be effective 8/31/2016.

Filed Date: 10/24/16.

Accession Number: 20161024-5146.

Comments Due: 5 p.m. ET 11/14/16.

Docket Numbers: ER17-172-000.

Applicants: Lockhart Power Company.

Description: § 205(d) Rate Filing: Request for Revision to FERC Electric Tariff, Original Volume No. 1 to be effective 12/24/2016.

Filed Date: 10/24/16.

Accession Number: 20161024-5147.

Comments Due: 5 p.m. ET 11/14/16.

Docket Numbers: ER17-173-000.

Applicants: Wabash Valley Power Association, Inc.

Description: Request for Revised and Additional Depreciation Rates of Wabash Valley Power Association, Inc.

Filed Date: 10/24/16.

Accession Number: 20161024-5170.

Comments Due: 5 p.m. ET 11/14/16.

Docket Numbers: ER17-174-000.

Applicants: Southwest Power Pool, Inc.

Description: § 205(d) Rate Filing: 2236R8 Golden Spread Electric Cooperative, Inc. NITSA NOA to be effective 10/1/2016.

Filed Date: 10/25/16.

Accession Number: 20161025-5021.

Comments Due: 5 p.m. ET 11/15/16.

Docket Numbers: ER17-175-000.

Applicants: Southwest Power Pool, Inc.

Description: § 205(d) Rate Filing: 1276R12 KCPL NITSA NOA to be effective 10/1/2016.

Filed Date: 10/25/16.

Accession Number: 20161025-5033.

Comments Due: 5 p.m. ET 11/15/16.

Docket Numbers: ER17-176-000.

Applicants: Southern California Edison Company.

Description: Tariff Cancellation: Notices of Cancellation of SGIA and Service Agreement for Lucerne Valley Solar to be effective 7/15/2016.

Filed Date: 10/25/16.

Accession Number: 20161025-5034.

Comments Due: 5 p.m. ET 11/15/16.

Docket Numbers: ER17-177-000.

Applicants: UGI Energy Services, LLC.

Description: Compliance filing: New Baseline Market Based Rate Filing to be effective 10/1/2013.

Filed Date: 10/25/16.

Accession Number: 20161025-5043.

Comments Due: 5 p.m. ET 11/15/16.

Docket Numbers: ER17-178-000.

Applicants: UGI Energy Services, LLC.

Description: § 205(d) Rate Filing: Supplemental Revisions to Market Based Rate Tariff to be effective 10/10/2016.

Filed Date: 10/25/16.

Accession Number: 20161025-5048.

Comments Due: 5 p.m. ET 11/15/16.

Docket Numbers: ER17-179-000.

Applicants: PPL Electric Utilities Corporation, American Transmission Systems, Incorporated, PJM Interconnection, L.L.C.

Description: § 205(d) Rate Filing: PJM and PJM Transmission Owners Submit Tariff Revisions re Supplemental Projects to be effective 12/31/9998.

Filed Date: 10/25/16.

Accession Number: 20161025-5063.

Comments Due: 5 p.m. ET 11/15/16.

Docket Numbers: ER17-180-000.

Applicants: San Diego Gas & Electric Company.

Description: § 205(d) Rate Filing: SDGE Resubmittal of Standard LGIA—Clone to be effective 10/22/2011.

Filed Date: 10/25/16.

Accession Number: 20161025-5085.

Comments Due: 5 p.m. ET 11/15/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 25, 2016.
Nathaniel J. Davis, Sr.,
Deputy Secretary.

[FR Doc. 2016-26228 Filed 10-28-16; 8:45 am]

BILLING CODE 6717-01-P